DEPARTMENT OF ENERGY

Federal Energy Regulatory Commission

Notice of Effectiveness of Exempt Wholesale Generator Status

| Docket Nos.
Kawailoa Solar, LLC | EG22-199-000
Sunflower Energy Center, LLC | EG22-200-000
Chaparral Springs, LLC | EG22-201-000
Appaloosa Run Wind, LLC | EG22-202-000
Young Wind, LLC | EG22-203-000
Lacy Creek Wind, LLC | EG22-204-000
Inertia Wind Project, LLC | EG22-205-000
AES Energy Storage, LLC | EG22-206-000
MTSun LLC | EG22-207-000
Hunt Energy Network Land Company, L.L.C | EG22-208-000
HEN Infrastructure, L.L.C | EG22-209-000
Eight Point Wind, LLC | EG22-210-000
Clearwater Energy Resources LLC | EG22-211-000
Sun Valley Solar LLC | EG22-212-000
BT Cunningham Storage, LLC | EG22-213-000
CPV Three Rivers, LLC | EG22-214-000

Take notice that during the month of October 2022, the status of the above-captioned entities as Exempt Wholesale Generators Companies became effective by operation of the Commission's regulations. 18 CFR 366.7(a) (2021).

Dated: November 2, 2022.
Debbie-Anne A. Reese,
Deputy Secretary.

[FR Doc. 2022-24336 Filed 11-7-22; 8:45 am]

BILLING CODE 6717-01-P